ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, September 9-11, 2013 at the times and location listed below.

DATES: The schedule of events is as follows:

Monday, September 9, 2013

10:30 a.m.-4:00 p.m. Ad Hoc Committee Meetings: Closed to public.

Tuesday, September 10, 2013

9:30-11:00 a.m. Ad Hoc Committee on Frontier Issues.

11:00-Noon Planning and Evaluation Committee.

1:30-2:30 p.m. Technical Programs Committee.

2:30-4:00 Ad Hoc Committee: Closed to Public.

Wednesday, September 11, 2013

9:30-10:30 a.m. Board Member Presentation on Health Care Work.

10:30-11:30 Overview of the new Access Board Web site.

1:30-3:30 p.m. Board Meeting.

ADDRESSES: Meetings will be held at the Access Board Conference Room, 1331 F Street NW., suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, September 11, 2013 the Access Board will consider the following agenda items:

• Approval of the draft July 10, 2013 meeting minutes (vote)

• Ad Hoc Committee Reports: Self-Service Transaction Machines; Information and Communications Technologies; Classroom Acoustics; Emergency Transportable Housing; Passenger Vessels; Medical Diagnostic Equipment; Accessible Design in Education; Public Rights-of-Way and Shared Use Paths; Frontier Issues; and Transportation Vehicles

• Planning and Evaluation Committee

• Technical Programs Committee

• Budget Committee

• Election Assistance Commission Report

• ADA and ABA Guidelines; Federal Agency Update

• Executive Director's Report

• Public Comment, Open Topics

All meetings are accessible to persons with disabilities. An assistive listening system, Communication Access Realtime Translation (CART), and sign language interpreters will be available at the Board meeting and committee meetings. Persons attending Board meetings are requested to refrain from using perfume, cologne, and other fragrances for the comfort of other participants (see www.access-board.gov/the-board/policies/fragrance-free-environment for more information).

David M. Capozzi,
Executive Director.

[FR Doc. 2013-20550 Filed 8-22-13; 8:45 am]

BILLING CODE 8150-01-P